DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Arkansas:
Pulaski (FEMA Docket No.: B-7467) | City of Jacksonville (05-06-1464P) | December 21, 2005; December 28, 2005; Jacksonville Patriot | The Honorable Tommy Swaim, Mayor, City of Jacksonville, One Municipal Drive, Jacksonville, Arkansas 72076 | March 29, 2006 | 050180
California:
Alameda (FEMA Docket No.: B-7474) | City of Livermore (06-09-BE71P) | September 21, 2006; September 28, 2006; Alameda Times Star | The Honorable Marshall Kamena, Mayor, City of Livermore, 1052 South Livermore Avenue, Livermore, CA 94550 | December 28, 2006 | 060008
Georgia:
Jackson (FEMA Docket No.: B-7474) | Unincorporated areas of Jackson County (06-04-BQ92P) | September 20, 2006; September 27, 2006; The Jackson Herald | The Honorable Pat Bell, Chairman, Jackson County Board of Commissioners, 67 Athens Street, Jefferson, GA 30549 | December 27, 2006 | 130345
Illinois:
Will (FEMA Docket No.: B-7467) | Village of Bolingbrook (06-05-B595P) | July 14, 2006; July 21, 2006; The Bolingbrook Sun | The Honorable Roger C. Claar, Mayor, Village of Bolingbrook, 375 West Briarcliff Road, Bolingbrook, Illinois 60440 | September 28, 2006 | 170812
Nevada:
Clark (FEMA Docket No.: B-7466) | City of Henderson (05-09-A069P) | December 1, 2005; December 8, 2005; Las Vegas Review-Journal | The Honorable James B. Gibson, Mayor, City of Henderson, 240 South Water Street, Fourth Floor, Henderson, Nevada 89009-5050 | March 9, 2006 | 320005
Clark (FEMA Docket No.: B-7466) | Unincorporated areas of Clark County (05-09-A069P) | December 1, 2005; December 8, 2005; Las Vegas Review-Journal | The Honorable Rory Reid, Chair, Clark County Board of Commissioners, 500 Grand Central Parkway, Las Vegas, Nevada 89106 | March 9, 2006 | 320003
Clark (FEMA Docket No.: B-7466) | Unincorporated areas of Clark County (06-09-B083P) | March 16, 2006; March 23, 2006; Las Vegas Review-Journal | The Honorable Rory Reid, Chair, Clark County Board of Commissioners, 500 Grand Central Parkway, Las Vegas, Nevada 89106 | June 22, 2006 | 320003
Texas:
Lampasas (FEMA Docket No.: B-7466) | City of Lampasas (06-06-B513P) | August 15, 2006; September 5, 2006; Lampasas Dispatch Record | The Honorable Jack Calvert, Mayor, City of Lampasas, 312 East Third Street, Lampasas, Texas 76550 | August 21, 2006 | 480430
Montgomery (FEMA Docket No.: B-7466) | Unincorporated areas of Montgomery County (05-06-A477P) | May 10, 2006; May 17, 2006; Humble/Kingwood Observer | The Honorable Alan B. Sadler, Montgomery County Judge, 301 North Thompson, Suite 210, Conroe, Texas 77301 | April 24, 2006 | 480483
Parker (FEMA Docket No.: B-7466) | City of Weatherford (05-06-0653P) | May 18, 2006; May 25, 2006; Weatherford Democrat | The Honorable Joe M. Tison, Mayor, City of Weatherford, P.O. Box 255, Weatherford, Texas 76086 | August 24, 2006 | 480522
Tarrant (FEMA Docket No.: B-7466) | City of Bedford (05-06-A515P) | April 27, 2006; May 4, 2006; Fort Worth Star-Telegram | The Honorable James Story, Mayor, City of Bedford, 2000 Forest Ridge Drive, Bedford, Texas 76021 | August 3, 2006 | 480585
Tarrant (FEMA Docket No.: B-7474) | City of Blue Mound (06-06-BE05P) | October 19, 2006; October 26, 2006; Fort Worth Star-Telegram | The Honorable Jace Preston, Mayor, City of Blue Mound, 301 Blue Mound Road, Fort Worth, Texas 76131 | January 25, 2007 | 480587
Tarrant (FEMA Docket No.: B-7466) | City of Fort Worth (05-06-0916P) | July 20, 2006; July 27, 2006; Fort Worth Star-Telegram | The Honorable Michael J. Moncrief, Mayor, City of Fort Worth, 10000 Throckmorton Street, Fort Worth, Texas 76102 | October 26, 2006 | 480596
Tarrant (FEMA Docket No.: B-7466) | City of Fort Worth (05-06-1252P) | June 22, 2006; June 29, 2006; Fort Worth Star-Telegram | The Honorable Michael J. Moncrief, Mayor, City of Fort Worth, 10000 Throckmorton Street, Fort Worth, Texas 76102 | September 28, 2006 | 480596
Tarrant (FEMA Docket No.: B-7466) | City of Fort Worth (06-06-B004P) | April 20, 2006; April 27, 2006; Fort Worth Star-Telegram | The Honorable Michael J. Moncrief, Mayor, City of Fort Worth, 10000 Throckmorton Street, Fort Worth, Texas 76102 | July 27, 2006 | 480596
Tarrant (FEMA Docket No.: B-7466) | City of Fort Worth (06-06-B065P) | July 13, 2006; July 20, 2006; Fort Worth Star-Telegram | The Honorable Michael J. Moncrief, Mayor, City of Fort Worth, 10000 Throckmorton Street, Fort Worth, Texas 76102 | October 19, 2006 | 480596
Tarrant (FEMA Docket No.: B-7466) | City of Fort Worth (06-06-B068P) | April 20, 2006; April 27, 2006; Fort Worth Star-Telegram | The Honorable Michael J. Moncrief, Mayor, City of Fort Worth, 10000 Throckmorton Street, Fort Worth, Texas 76102 | July 27, 2006 | 480596
Tarrant (FEMA Docket No.: B-7466) | City of Fort Worth (06-06-B169P) | June 15, 2006; June 22, 2006; Fort Worth Star Telegram | The Honorable Michael J. Moncrief, Mayor, City of Fort Worth, 10000 Throckmorton Street, Fort Worth, Texas 76102 | September 21, 2006 | 480596
Tarrant (FEMA Docket No.: B-7466) | City of Fort Worth (06-06-B536P) | June 22, 2006; June 29, 2006; Fort Worth Star-Telegram | The Honorable Michael J. Moncrief, Mayor, City of Fort Worth, 10000 Throckmorton Street, Fort Worth, Texas 76102 | September 28, 2006 | 480596
Tarrant (FEMA Docket No.: B-7474) | City of Fort Worth (06-06-BE05P) | October 19, 2006; October 26, 2006; Fort Worth Star-Telegram | The Honorable Michael J. Moncrief, Mayor, City of Fort Worth, 10000 Throckmorton Street, Fort Worth, Texas 76102 | January 25, 2007 | 480596
Tarrant (FEMA Docket No.: B-7466) | Unincorporated areas of Tarrant County (06-06-B004P) | April 20, 2006; April 27, 2006; Fort Worth Star-Telegram | The Honorable Tom Vandergriff, Tarrant County Judge, 100 East Weatherford Street, Suite 502A, Fort Worth, Texas 76196 | July 27, 2006 | 480582
Washington (FEMA Docket No.: B-7474) | City of Brenham (06-06-B038P) | September 21, 2006; September 28, 2006; Brenham Banner-Press | The Honorable Milton Tate, Mayor, City of Brenham, P.O. Box 1059, Brenham, Texas 77833 | August 28, 2006 | 480648
Williamson (FEMA Docket No.: B-7466) | City of Round Rock (05-06-0490P) | February 23, 2006; March 2, 2006; Round Rock Leader | The Honorable Nyle Maxwell, Mayor, City of Round Rock, 221 East Main Street, Round Rock, Texas 78664 | March 8, 2006 | 481048

(Catalog of Federal Domestic Assistance No. 83.100, “Flood Insurance.”)

Dated: March 20, 2007.
David I. Maurstad,
Director, Mitigation Division, Federal Emergency Management Agency, Department of Homeland Security.

[FR Doc. E7-5615 Filed 3-27-07; 8:45 am]

BILLING CODE 9110-12-P